DEPARTMENT OF HEALTH AND HUMAN SERVICES

Administration for Children and Families

Proposed Information Collection Activity; Cost Study of Trauma-Specific Evidence-Based Programs Used in the Regional Partnership Grants Program (New Collection)

AGENCY: Children's Bureau, Administration for Children and Families, HHS.

ACTION: Request for public comment.

SUMMARY: The Children's Bureau (CB), Administration for Children and Families (ACF), U.S. Department of Health and Human Services (HHS), is proposing to collect data for a new descriptive study—the Cost Study of Trauma-Specific Evidence-Based Programs used in the Regional Partnership Grants (RPG) Program.

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: Since 2006, CB has awarded multiple rounds of competitive grants to state and local agencies and service providers under the RPG Program. Grants are awarded to organizations such as child welfare agencies, substance abuse treatment providers, or family court systems to develop interagency collaborations and provide services designed to increase well-being, improve permanency, and enhance the safety of children who are in or are at risk of being placed in out-of-home care as a result of a parent's or caretaker's substance abuse. Thirty-five grantees are participating in the ongoing RPG national cross-site evaluation, which examines implementation, partnerships, outcomes, and impacts. All grantees collect data on a uniform set of performance measures and report them to CB on a semi-annual basis through a web-based system. These ongoing data collection activities are approved under OMB #0970-0527. All grantees are also required to use a portion of their funding to conduct their own “local” program impact evaluation.

This proposed cost study adds a new and unique contribution to CB's portfolio of evaluation activities. Although the RPG cross-site evaluation will provide evidence for the effectiveness of some interventions to address the emotional effects of trauma, more information is needed about the cost of implementing these Evidence-Based Programs (EBPs).

The cost study has the key objective to determine the cost of implementing three select Trauma-Specific EBPs: Parent-Child Interaction Therapy, Seeking Safety, and Trauma-Focused Cognitive Behavioral Therapy. To carry out this objective, the study team will collect detailed cost information from nine RPG round four and five grantees who are implementing these selected EBPs. For each grantee, the study team will administer two data collection instruments: (1) A Cost Workbook used to collect comprehensive information on the cost of implementing each select program (Instrument #1), and (2) a Staff Survey and Time Log used to collect information on how program staff allocate their time (Instrument #2).

Respondents: Grantee staff.

Annual Burden Estimates

Data collection will take place within a 1-year period.

Instrument | Total number of respondents | Total number of responses per respondent | Average burden hours per response | Total/annual burden hours
Cost Workbook | 9 | 1 | 8 | 72
Staff Survey and Time Log | 90 | 1 | 3.6 | 330

Estimated Total Annual Burden Hours: 402.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The Child and Family Services Improvement and Innovation Act (Pub. L. 112-34).

Mary B. Jones,
ACF/OPRE Certifying Officer.

[FR Doc. 2020-13935 Filed 6-26-20; 8:45 am]

BILLING CODE 4184-29-P